DEPARTMENT OF LABOR

Employment and Training Administration

[TA-W-53,211]

Rogers Corporation Elastomer Components Division South Windham, Connecticut; Notice of Negative Determination Regarding Application for Reconsideration

By application of December 9, 2003, a company official requested administrative reconsideration of the Department's negative determination regarding eligibility to apply for Trade Adjustment Assistance (TAA), applicable to workers and former workers of the subject firm. The denial notice was signed on November 10, 2003, and published in the Federal Register on December 29, 2003 (68 FR 74977).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The petition for the workers of Rogers Corporation, South Windham, Connecticut engaged in the production of rubber floats, elastomeric foam components and rubber fusers, was denied because the “contributed importantly” group eligibility requirement of Section 222(3) of the Trade Act of 1974, as amended, was not met. The “contributed importantly” test is generally demonstrated through a survey of the workers' firm's customers. The Department conducted a survey of the subject firm's major customers regarding their purchases of competitive products from 2001 through September 2003. The respondents reported no increased imports. The subject firm did not increase its reliance on imports of rubber floats, elastomeric foam components and rubber fusers during the relevant period.

In the request for reconsideration, the petitioner alleges that employment declines at the subject facility are attributed to Rogers Corporation establishing a manufacturing facility in China. However, careful review of the facts and documents received during original investigation determined that no products manufactured by the subject firm in China are shipped directly to the United States, but are rather sold to customers in China for further assembly.

The petitioning company official states that the key customers of the subject firm are sourcing materials in Asia because of favorable pricing. When contacted for further customers to support this claim, the official clarified that, in fact, rubber floats, elastomeric foam components and rubber fusers were not being imported by customers. The official elaborated that the above mentioned products are components used in the production of paper moving machinery, such as printers, copy machines, check and mail sorters, and customers were shifting the production of these machines to Asia. The official concluded that, because this machinery is being imported back into the U.S., the subject firm workers producing the rubber floats, elastomeric foam components and rubber fusers were import impacted.

In assessing the eligibility of a petitioning worker group for trade adjustment assistance, the Department considers imports that are “like or directly” competitive to those produced by the petitioning worker group. Printers, check sorters, copy machines that are allegedly imported by the subject firm's customers are paper moving machinery and are not considered “like or directly” competitive with rubber floats, elastomeric foam components and rubber fusers produced by the subject firm, and thus do not meet the eligibility requirements of the Trade Act of 1974.

Conclusion

After review of the application and investigative findings, I conclude that there has been no error or misinterpretation of the law or of the facts which would justify reconsideration of the Department of Labor's prior decision. Accordingly, the application is denied.

Signed at Washington, DC this 22nd day of January, 2004.
Elliott S. Kushner,
Certifying Officer, Division of Trade Adjustment Assistance.

[FR Doc. 04-3311 Filed 2-13-04; 8:45 am]

BILLING CODE 4510-30-P